ENVIRONMENTAL PROTECTION AGENCY

[FRL-8496-9]

Notice of Extension of Public Comment Period for the External Review Draft of a “Framework for Determining a Mutagenic Mode of Action for Carcinogenicity: Using EPA's 2005 Cancer Guidelines and Supplemental Guidance for Assessing Susceptibility From Early-Life Exposure to Carcinogens”

AGENCY: Environmental Protection Agency (EPA).

ACTION: Notice of extension of public comment period.

SUMMARY: On September 27, 2007, the U.S. Environmental Protection Agency (EPA) released for public comment the External Review Draft of the “Framework for Determining a Mutagenic Mode of Action for Carcinogenicity: Using EPA's 2005 Cancer Guidelines and Supplemental Guidance for Assessing Susceptibility from Early-Life Exposure to Carcinogens” (or Framework). At that time, a 60-day public comment period was announced. This notice announces a 30-day extension of the public comment period; the public comment period will end 90 days from September 27, 2007, the date of the original Federal Register Notice (72 FR 54910). Visit http://www.epa.gov/fedrgstr/EPA-GENERAL/2007/September/Day-27/g19119.pdf) for further information. Members of the public may obtain the draft interim guidance from http://www.regulations.gov; or http://www.epa.gov/osa/mmoaframework; or consult the person listed under FOR FURTHER INFORMATION CONTACT.

ADDRESSES: The draft document is available electronically through the EPA Office of the Science Advisor's Web site at: http://www.epa.gov/osa/mmoaframework.

FOR FURTHER INFORMATION CONTACT: For more information, contact Resha Putzrath, Ph.D., Office of the Science Advisor, Mail Code 8105R, U.S. Environmental Protection Agency, 1200 Pennsylvania Avenue, NW., Washington, DC 20460; telephone number: (202) 564-3229; fax number: (202) 564-2070, e-mail: putzrath.resha@epa.gov.

Dated: November 8, 2007.
George M. Gray,
EPA Science Advisor.

[FR Doc. E7-22508 Filed 11-15-07; 8:45 am]

BILLING CODE 6560-50-P